FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16182NF.

Name: Arnistics LLC.

Address: 171 Madison Avenue, Suite 1409, New York, NY 10016.

Date Revoked: September 6, 2001 and November 28, 2001.

Reason: Failed to maintain valid bonds.

License Number: 4255F.

Name: Colonial Storage Co. dba Logistics International.

Address: 9900 Fallard Court, Upper Marlboro, MD 20772-3800.

Date Revoked: May 1, 2002.

Reason: Failed to maintain a valid bond.

License Number: 15019N.

Name: Delta Cargo Corporation.

Address: 1507 NW 82nd Avenue, Miami, FL 33126.

Date Revoked: May 16, 2002.

Reason: Failed to maintain a valid bond.

License Number: 16047N.

Name: Dorado Shipping, Inc.

Address: 6807 Tamra Lane, Jacksonville, FL 32216.

Date Revoked: April 25, 2002.

Reason: Failed to maintain a valid bond.

License Number: 17055N.

Name: Eternity International LLC.

Address: 14168 Orange Avenue, Paramount, CA 90723.

Date Revoked: April 24, 2002.

Reason: Failed to maintain a valid bond.

License Number: 17196N.

Name: Jover Logistics (USA) Inc.

Address: 179-30 149th Avenue, Suite 105, Jamaica, NY 11434.

Date Revoked: May 8, 2002.

Reason: Failed to maintain a valid bond.

License Number: 3695F.

Name: Rapid Air & Ocean, Inc.

Address: 8601 NW 81st Road, Suite 4, Medley, FL 33166.

Date Revoked: March 24, 2002.

Reason: Failed to maintain a valid bond.

License Number: 4381F.

Name: Seiwa Kaiun U.S.A., Inc.

Address: 4393-L Tuller Road, Dublin, OH 43017.

Date Revoked: April 26, 2002.

Reason: Surrendered license voluntarily.

License Number: 15529N.

Name: Smartlink International, Inc.

Address: 184-45 147th Avenue, Suite 102, Springfield Gardens, NY 11413.

Date Revoked: May 1, 2002.

Reason: Failed to maintain a valid bond.

License Number: 11160N.

Name: Transmarine Line, Inc.

Address: A.I.O.P. Building, B/6A, Hook Creek Blvd. & 145th Ave., Valley Stream, NY 11581.

Date Revoked: May 1, 2002.

Reason: Surrendered license voluntarily.

License Number: 14054N.

Name: United (TAT) International Corp.

Address: 721 Brea Canyon Road, #8, Walnut, CA 91789.

Date Revoked: May 3, 2002.

Reason: Failed to maintain a valid bond.

License Number: 13496N.

Name: Worldwide Freight Systems, Inc.

Address: 1830 C Independence Square, Atlanta, GA 30338.

Date Revoked: April 30, 2002.

Reason: Failed to maintain a valid bond.

Sandra L. Kusumoto,
Director, Bureau of Consumer Complaints and Licensing.

[FR Doc. 02-15476 Filed 6-18-02; 8:45 am]

BILLING CODE 6730-01-P